DEPARTMENT OF THE TREASURY

Internal Revenue Service

26 CFR Part 20

[TD 9468]

RIN 1545-BC56

Guidance Under Section 2053 Regarding Post-Death Events; Correction

AGENCY: Internal Revenue Service (IRS), Treasury.

ACTION: Correcting amendment.

SUMMARY: This document contains corrections to final regulations (TD 9468) that were published in the Federal Register on Tuesday, October 20, 2009 (74 FR 53652) providing guidance relating to the amount deductible from a decedent's gross estate for claims against the estate under section 2053(a)(3) of the Internal Revenue Code.

DATES: This correction is effective on November 25, 2009 and is applicable in taxable years ending on or after October 20, 2009.

FOR FURTHER INFORMATION CONTACT: Karlene M. Lesho, (202) 622-3090 (not a toll-free number).

SUPPLEMENTARY INFORMATION:

Background

The final regulations that are the subject of this document are under sections 2051 and 2053 of the Internal Revenue Code.

Need for Correction

As published, the final regulations (TD 9468) contain errors that may prove to be misleading and are in need of clarification.

List of Subjects in 26 CFR Part 20

Estate taxes, Reporting and recordkeeping requirements.

Correction of Publication

Accordingly, 26 CFR part 20 is corrected by making the following correcting amendments:

PART 20—ESTATE TAX; ESTATES OF DECENDENTS DYING AFTER AUGUST 16, 1954

Paragraph 1. The authority citation for part 20 continues to read in part as follows:

Authority: 26 U.S.C. 7805 * * *

Par. 2. Section 20.2053-1 is amended by revising the third sentence of paragraph (d)(7) Example 3 to read as follows:

§ 20.2053-1 Deduction for expenses, indebtedness, and taxes; in general.

* * * * *

(d) * * *

(7) * * *

Example 3. * * * Instead, pursuant to the protective claim for refund filed by E, the marital deduction will be reduced by the claim once a final judgment is entered in the case. * * *

* * * * *

Par. 3. Section 20.2053-4 is amended by revising the last sentence of paragraph (d)(3) to read as follows.

§ 20.2053-4 Deduction for claims against the estate.

* * * * *

(d) * * *

(3) * * * See further § 20.2053-1(d)(3).

* * * * *

LaNita VanDyke,
Chief, Publications and Regulations Branch, Legal Processing Division, Associate Chief Counsel (Procedure and Administration)

[FR Doc. E9-28332 Filed 11-24-09; 8:45 am]

BILLING CODE 4830-01-P